DEPARTMENT OF TRANSPORTATION

Federal Aviation Administration

14 CFR Part 39

[Docket No. FAA-2010-0279; Directorate Identifier 2009-NM-148-AD; Amendment 39-16496; AD 2010-23-07]

RIN 2120-AA64

Airworthiness Directives; Airbus Model A318, A319, A320, and A321 Series Airplanes

Correction

In rule document 2010-27614 beginning on page 68181 in the issue of Friday, November 5, 2010, make the following corrections:

§ 39.13 [Corrected]

1. On page 68183, in § 39.13(c), in the second column, in the first column of the table, in the 30th entry, “D554 71000 000 00”, should read “D554 71001 000 00”.

2. On the same page, in the same section, in the third column, in the second column of the table, in the 19th entry, “TS-Z072”, should read “TS-2072”.

3. On page 68184, in the same section, in the first column, in the first column of the table, in the 12th entry, “D554 11002 000 00 003” should read “D554 71002 000 00 0003”.

4. On the same page, in the same section, in the same column, in the same column of the table, in the 14th entry, “D554 11004 000 00 0000” should read “D554 71004 000 00 0000”.

[FR Doc. C1-2010-27614 Filed 12-16-10; 8:45 am]

BILLING CODE 1505-01-D